DEPARTMENT OF HEALTH AND HUMAN SERVICES

Centers for Disease Control and Prevention

[30Day-08-0106]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Preventive Health and Health Services Block Grant—Revision—National Center for Chronic Disease and Public Health Promotion (NCCDPHP), Centers for Disease Control and Prevention (CDC).

Background and Brief Description

The Preventive Health and Health Services Block Grant program provides awardees with their primary source of flexible funding for health promotion and disease prevention programs. Sixty-one awardees (50 states, the District of Columbia, two American Indian Tribes, and eight U.S. territories) currently receive block grants from CDC in order to address locally defined public health needs in innovative ways. Block Grants allow awardees to prioritize the use of funds to fill funding gaps in programs that deal with leading causes of death and disability, as well as the ability to respond rapidly to emerging health issues.

CDC currently collects standardized application and performance information from each awardee through an electronic Grant Application and Reporting System (GARS). In response to measures described in the Government Performance Results Act, CDC proposes to replace GARS with a web-based Block Grant Management Information System (BG-MIS) that will collect information by the areas described in Healthy People 2010 and improve adherence to its goals. Concurrent with conversion to the BG-MIS, minor changes to the questions and response options, and other features, will be implemented to reduce respondent burden and support the Healthy People 2010 framework. These features include increased utilization of pre-defined response options, start and end dates, the SMART (Specific, Measurable, Achievable, Realistic, and Time-based) format for describing objectives, and identification of Evidence Based Guidelines and Best Practices used as the basis for public health programs and interventions. In addition, a Compliance Review section has been added to provide each awardee with general information regarding the Compliance Review process and specific information pertaining to its past reviews.

Information will be collected twice per year. Each awardee will submit an annual Work Plan outlining awardee-specific health outcome objectives and an Annual Report describing progress toward its goals.

There are no costs to respondents except their time. The estimated annualized burden hours are 3,355.

Estimated Annualized Burden Hours
Respondents | Form name | Number of respondents | Number of responses per respondent | Average burden per response (in hours)
PHHS Block Grant Awardees | Work Plan | 61 | 1 | 25
| Annual Report | 61 | 1 | 30

Dated: April 30, 2008.
Maryam I. Daneshvar,
Acting Reports Clearance Officer, Centers for Disease Control and Prevention.

[FR Doc. E8-10215 Filed 5-7-08; 8:45 am]

BILLING CODE 4163-18-P